DEPARTMENT OF ENERGY

Federal Energy Regulatory Commission

Notice of Competing Preliminary Permit Applications Accepted for Filing and Soliciting Comments, and Motions To Intervene

November 19, 2010.

Lock Hydro Friends Fund XLIII | Project No. 13745-000
FFP Missouri 14, LLC | Project No. 13758-000
Solia 4 Hydroelectric LLC | Project No. 13767-000
Monongahela 4 Hydro, LLC | Project No. 13788-000

On May 18, 2010, Lock Hydro Friends Fund XLIII, FFP Missouri 14, LLC, Solia 4 Hydroelectric LLC, and on May 19, 2010, Monongahela 4 Hydro, LLC filed applications, pursuant to section 4(f) of the Federal Power Act, proposing to study the feasibility of hydropower at the U.S. Army Corps of Engineers (Corps) Monongahela River Lock & Dam No. 4 located on the Monongahela River in Washington County, Pennsylvania. The sole purpose of a preliminary permit, if issued, is to grant the permit holder priority to file a license application during the permit term. A preliminary permit does not authorize the permit holder to perform any land-disturbing activities or otherwise enter upon lands or waters owned by others without the owners' express permission.

Descriptions of the proposed Monongahela River Lock & Dam No. 4 Projects:

Lock Hydro Friends Fund XLIII's project (Project No. 13745-000) would consist of: (1) Two 45-foot-high, 75-foot-long prefabricated concrete walls attached to the downstream side of the Corps dam which would support one frame module; (2) the frame module would be 109 feet long and weigh 1.16 million pounds and contain 10 generating units with a total combined capacity of 18.0 megawatts (MW); (3) a new switchyard containing a transformer; (4) a proposed 5,000-foot-long, 36.7-kilovolt (kV) transmission line to an existing substation. The proposed project would have an average annual generation of 78.894 gigawatt-hours (GWh), which would be sold to a local utility.

Applicant Contact: Mr. Mark R. Stover, Hydro Green Energy LLC, 5090 Richmond Avenue #390, Houston, TX 77056; phone (877) 556-6566 x711.

FFP Missouri 14, LLC's project (Project No. 13758-000) would consist of: (1) An excavated intake channel slightly longer and wider than the powerhouse; (2) a 200-foot-long, 25-foot-wide, 60-foot-high proposed powerhouse containing four generating units having a total installed capacity of 20.0 MW; (3) an excavated tailrace channel slightly longer and wider than the powerhouse; (4) a proposed 5,500-foot-long, 34.0 to 230-kV transmission line. The proposed project would have an average annual generation of 85.0 GWh, which would be sold to a local utility.

Applicant Contact: Ms. Ramya Swaminathan, Free Flow Power Corporation, 33 Commercial Street, Gloucester, MA 01930; phone (978) 283-2822.

Solia 4 Hydroelectric LLC's project (Project No. 13767-000) would consist of: (1) A proposed 300-foot-long, 80-foot-wide excavated intake channel on the left bank of the dam, requiring removal of part of the left dam abutment; (2) a proposed powerhouse containing four generating units having a total installed capacity of 18.7 MW; (3) a 200-foot-long, 80-foot-wide excavated tailrace; (4) a proposed 4,900-foot-long, 34.0 to 230-kV transmission line. The proposed project would have an average annual generation of 81.8 GWh, which would be sold to a local utility.

Applicant Contact: Mr. Douglas Spaulding, Nelson Energy, 8441 Wayzata Blvd. Suite 101, Golden Valley, MN 55426; phone (952) 544-8133.

Monongahela 4 Hydro, LLC's project (Project No. 13788-000) would consist of: (1) A proposed 190-foot-long excavated power canal; (2) a proposed powerhouse containing two generating units having a total installed capacity of 8.2 MW; (3) a 145-foot-long excavated tailrace; (4) a proposed 0.8-mile-long, 69.0-kV transmission line. The proposed project would have an average annual generation of 28.1 GWh, which would be sold to a local utility.

Applicant Contact: Mr. Brent Smith, Symbiotics LLC., P.O. Box 535, Rigby, ID 83442; phone (208) 745-0834.

FERC Contact: Michael Spencer, (202) 502-6093.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's website http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov; call toll-free at (866) 208-3676; or, for TTY, contact (202) 502-8659. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of the Commission's Web site at http://www.ferc.gov/docs-filing/elibrary.asp. Enter the docket number (P-13745-000, 13758-000, 13767-000, or 13788-000) in the docket number field to access the document. For assistance, contact FERC Online Support.

Kimberly D. Bose,
Secretary.

[FR Doc. 2010-29854 Filed 11-26-10; 8:45 am]

BILLING CODE 6717-01-P